DEPARTMENT OF COMMERCE

National Oceanic and Atmospheric Administration

RIN 0648-XU21

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that the subject Exempted Fishing Permit (EFP) application for the Northeast Fisheries Science Center's (NEFSC) Study Fleet Program contains all of the required information and warrants further consideration. The EFP would exempt fishing vessels from minimum fish sizes and possession and landing limits for the purpose of collecting fishery dependent catch data and biological samples.

Regulations under the Magnuson-Stevens Fishery Conservation and Management Act require publication of this notification to provide interested parties the opportunity to comment on EFP applications.

DATES: Comments must be received on or before March 12, 2010.

ADDRESSES: Comments on this notice may be submitted by e-mail. The mailbox address for providing e-mail comments is NERO.EFP@noaa.gov. Include in the subject line of the e-mail comment the following document identifier: “Comments on NEFSC Study Fleet EFP.” Written comments should be sent to Patricia A. Kurkul, Regional Administrator, NMFS, Northeast Regional Office, 55 Great Republic Drive, Gloucester, MA 01930. Mark the outside of the envelope “Comments on NEFSC Study Fleet EFP.” Comments may also be sent via facsimile (fax) to (978) 281-9135.

FOR FURTHER INFORMATION CONTACT: Anna Macan, Fishery Management Specialist, phone: 978-281-9165, fax: 978-281-9135.

SUPPLEMENTARY INFORMATION: The EFP would exempt federally permitted commercial fishing vessels from the regulations detailed below while participating in the Study Fleet Program and operating under projects managed by the NEFSC. The EFP would temporarily exempt participating vessels from minimum size and possession limits for the purpose of at-sea sampling and, in limited situations for research purposes only, to retain and land fish that would otherwise be prohibited.

Crew trained by the NEFSC Study Fleet Program in methods that are consistent with the current NEFSC observer protocol, while under normal fishing operations, would sort, weigh, and measure fish that are to be discarded. An exemption from the minimum fish sizes and possession limits for at-sea sampling is required because some discarded species would be on deck slightly longer than under normal sorting procedures.

The participating vessels would also be exempt from minimum size and possession limits because participating vessels, in limited situations, would be authorized to retain and land otherwise prohibited fish, for research purposes only. The vessels would be authorized to retain specific amounts of particular species in whole or round weight condition, including some undersized individuals and above the possession limits, in marked totes, which would be delivered to Study Fleet Program technicians. The participating vessels would be allowed to retain species below the minimum size requirement and above possession limits so that the vessels may collect biological samples. The NEFSC would require participating vessels to obtain written approval from the NEFSC Study Fleet Program prior to landing any fish in excess of possession limits and/or below minimum size limits to ensure that the landed fish do not exceed any of the Study Fleet Program's collection needs, as detailed below. None of the landed biological samples from these trips would be sold for commercial use or used for any other purpose other than research.

The table below details the regulations from which the participating vessels would be exempt. The participating vessels would be required to comply with all other applicable requirements and restrictions specified at 50 CFR part 648, unless specifically exempted in this EFP. Upon implementation of approved measures in Amendment 16 to the Multispecies Fishery Management Plan (FMP), all participating vessels must also comply with any other applicable requirements contained in regulations implementing the amendment. This includes the proposed regulation, at § 648.87(b)(1)(v) (74 FR 69454, December 31, 2009), that all catches of stocks allocated to Sectors by vessels on a Sector trip shall be deducted from the Sector's Annual Catch Entitlement (ACE) for each NE multispecies stock regardless of what fishery the vessel was participating in when the fish was caught. Additionally, once Amendment 16 to the Multispecies FMP is implemented, this EFP may be revised to reflect any changes in regulatory citations and to address any exemptions that may no longer be necessary.

NEFSC Study Fleet Program EFP
# of Vessels | Up to 50.
Possession | Temporary Possession for at-sea sampling plus limited landing.
Exempted regulations in 50 CFR part 648 | Size limits
| § 648.83(a)(3) NE multispecies minimum size.
| § 648.93 Monkfish minimum fish size.
| § 648.103 Summer flounder minimum fish size.
| § 648.143(a) Black sea bass minimum fish size.
| Possession limits
| § 648.86(b) Atlantic cod.
| § 648.86(c) Atlantic halibut.
| § 648.86(e) White hake.
| § 648.86(g) Yellowtail flounder.
| § 648.86(g)(1) SNE Yellowtail flounder possession limit.
| § 648.86(j) GB Winter flounder.
| § 648.86(n)(1) Zero retention of SNE Winter flounder.
| § 648.94 Monkfish possession limit.
| § 648.22(c) Incidental possession limit of Loligo.
| § 648.322 Skate possession and landing restrictions.
| § 648.145 Black sea bass possession limits.

The following descriptions detail the NEFSC Study Fleet Program's Sampling Needs:

Haddock—Whole fish would be retained for maturity and fecundity research. The haddock retained would not exceed 30 fish per trip, or 360 fish for all trips. The maximum weight of haddock on any trip would not exceed 120 lb (54.43 kg) total weight per trip, and would not exceed 1,440 lb (653.17 kg) for all trips combined.

Yellowtail Flounder—Whole fish would be retained for maturity, fecundity, bioelectrical impedance analysis (BIA), food habits, and genetic research. The yellowtail flounder retained would not exceed 60 fish per month from each of the three stock areas (Gulf of Maine (GOM), Georges Bank (GB), Southern New England/Mid-Atlantic (SNE/MA)), or 1,800 fish total from each stock area for all trips. The maximum weight on any trip would not exceed 50 lb (22.70 kg) total weight, and would not exceed 1,500 lb (680.39 kg) for all trips combined.

Summer Flounder—Whole fish would be retained for maturity, fecundity, BIA, food habits, and genetic research. The summer flounder retained would not exceed 60 fish per month from each of the three stock areas (GOM, GB, SNE/MA), or 1,800 fish total from each stock area for all trips. The maximum weight on any trip would not exceed 100 lb (45.36 kg) total weight, and would not exceed 3,000 lb (1,360.78 kg) for all trips combined.

Winter Flounder—Whole fish would be retained for maturity, fecundity, BIA, food habits, and genetic research. The winter flounder retained would not exceed 60 fish per month from each of the three stock areas (GOM, GB, SNE/MA), or 1,800 fish total from each stock area for all trips. The maximum weight on any trip would not exceed 75 lb (34.02 kg) total weight, and would not exceed 2,250 lb (1020.58 kg) for all trips combined.

Monkfish—Whole fish would be retained for maturity and fecundity research. Monkfish retained would not exceed 10 fish per trip, or 120 fish total for all trips. The maximum weight on any trip would not exceed 100 lb (45.36 kg) total weight, and would not exceed 1,200 lb (544.31 kg) for all trips combined.

Cod—Whole fish would be retained for tagging demonstrations and educational purposes. Cod to be retained would not exceed 15 fish per trip, or 60 cod for all trips. The maximum weight on any trip would not exceed 100 lb (45.36 kg) total weight, and would not exceed 600 lb (272.16 kg) for all trips combined.

Barndoor Skate—Whole and, in some cases, live skates would be retained for age and growth research and species confirmation. The barndoor skates retained would not exceed 20 fish per trip, or 80 skates total for all trips. The maximum weight on any trip would not exceed 75 lb (34.02 kg) total weight, and would not exceed 300 lb (136.08 kg) total for all trips combined.

Thorny Skate—Whole and, in some cases, live skates would be retained for age and growth research and species confirmation. Thorny skates retained would not exceed 20 fish per trip, or 80 skates total for all trips. The maximum weight on any trip would not exceed 75 lb (34.02 kg) whole weight, and would not exceed 300 lb (136.08 kg) total for all trips combined.

Black Sea Bass—Whole fish would be retained for examination of seasonal and latitudinal patterns in energy allocation. This effort is in support of an ongoing study at the NEFSC to evaluate BIA to measure fish energy density and reproductive potential for stock assessment. Black sea bass retained would not exceed 75 fish per trip or 300 black sea bass total for all trips. The maximum weight on any trip would not exceed 250 lb (113.40 kg) total weight, and would not exceed 1,000 lb (453.59 kg) total for all trips combined.

The applicant may make requests to NMFS for minor modifications and extensions to the EFP throughout the year. EFP modifications and extensions may be granted by NMFS without further notice if they are deemed essential to facilitate completion of the proposed research and result in only a minimal change in the scope or impact of the initially approved EFP request. In accordance with NOAA Administrative Order 216-6, a Categorical Exclusion or other appropriate NEPA document would be completed prior to the issuance of the EFP. Further review and consultation may be necessary before a final determination is made to issue the EFP. After publication of this document in the Federal Register, the EFP, if approved, may become effective following a 15-day public comment period.

Authority: 16 U.S.C. 1801 et seq.

Dated: February 22, 2010.
James P. Burgess,
Acting Director, Office of Sustainable Fisheries, National Marine Fisheries Service.

[FR Doc. 2010-3890 Filed 2-24-10; 8:45 am]

BILLING CODE 3510-22-P